DEPARTMENT OF ENERGY

Federal Energy Regulatory Commission

Combined Notice of Filings #1

Take notice that the Commission received the following electric rate filings:

Docket Numbers: ER10-2641-018; ER10-2663-018; ER10-2881-018; ER10-2882-018; ER10-2883-018; ER10-2884-018; ER10-2885-018; ER10-2886-018; ER13-1101-013; ER13-1541-012; ER14-661-005; ER14-787-006.

Applicants: Oleander Power Project, Limited Partnership, Southern Company—Florida LLC, Alabama Power Company, Southern Power Company, Mississippi Power Company, Georgia Power Company, Gulf Power Company, Southern Turner Cimarron I, LLC, Spectrum Nevada Solar, LLC, Campo Verde Solar, LLC, SG2 Imperial Valley LLC, Macho Springs Solar, LLC.

Description: Notification of Non-Material of Change in Status of Oleander Power Project, Limited Partnership, et. al.

Filed Date: 1/30/15.

Accession Number: 20150130-5456.

Comments Due: 5 p.m. ET 2/20/15.

Docket Numbers: ER10-2759-004; ER10-2732-010; ER10-2733-010; ER10-2734-010; ER10-2736-010; ER10-2737-010; ER10-2741-010; ER10-2749-010; ER10-2752-010; ER12-2492-006; ER12-2493-006; ER12-2494-006; ER12-2495-006; ER12-2496-006; ER14-264-001; ER10-2631-004; ER13-815-002.

Applicants: Bridgeport Energy LLC, Emera Energy Services Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LCL, Emera Energy Services Subsidiary No. 8 LLC, Emera Energy Services Subsidiary No. 9 LLC, Emera Maine, Emera Energy Services Subsidiary No. 10 LLC, Rumford Power Inc., Tiverton Power LLC.

Description: Notice of Change in Status of the Emera Entities.

Filed Date: 2/2/15.

Accession Number: 20150202-5328.

Comments Due: 5 p.m. ET 2/23/15.

Docket Numbers: ER11-4267-008; ER11-4270-008; ER11-4269-009; ER11-4268-008; ER11-113-009; ER10-2682-008; ER12-1680-006; ER11-4694-005.

Applicants: Algonquin Power Windsor Locks LLC, Algonquin Energy Services Inc., Algonquin Tinker Gen Co., Algonquin Northern Maine Gen Co., Sandy Ridge Wind, LLC, Granite State Electric Company, Minonk Wind, LLC, GSG 6, LLC.

Description: Notification of Change in Status of Algonquin Energy Services Inc., et. al.

Filed Date: 2/2/15.

Accession Number: 20150202-5307.

Comments Due: 5 p.m. ET 2/23/15.

Docket Numbers: ER12-1316-002; ER11-2753-003; ER13-413-003; ER11-1933-004.

Applicants: Silver State Solar Power North, LLC, Cedar Point Wind, LLC, USG Oregon LLC, Green Mountain Power Corporation.

Description: Notice of Change in Status of Silver State Solar Power North, LLC, et. al.

Filed Date: 2/2/15.

Accession Number: 20150202-5302.

Comments Due: 5 p.m. ET 2/23/15.

Docket Numbers: ER12-2178-012; ER10-2172-023; ER14-2144-002; ER12-2311-010; ER10-2179-026; ER11-2016-018; ER10-2184-023; ER10-1048-020; ER10-2192-023; ER11-2056-017; ER10-2178-023; ER14-1524-004; ER11-2014-020; ER11-2013-020; ER10-3308-021; ER10-1020-019; ER13-1536-006; ER10-1078-019; ER10-1080-019; ER11-2010-020; ER10-1081-020; ER14-2145-002; ER10-2180-023; ER12-2201-010; ER11-2011-019; ER12-2528-011; ER10-3025-006; ER10-3027-004; ER11-2009-019; ER11-3989-015; ER10-2181-026; ER10-1143-019; ER10-2182-026; ER12-1829-010; ER11-2007-018; ER12-1223-015; ER11-2005-020.

Applicants: Exelon Generation Company, LLC, AV Solar Ranch 1, LLC, Baltimore Gas and Electric Company, Beebe 1B Renewable Energy, LLC, Beebe Renewable Energy, LLC, Calvert Cliffs Nuclear Power Plant LLC, Cassia Gulch Wind Park, LLC, CER Generation, LLC, Commonwealth Edison Company, Constellation Energy Commodities Group Maine, LLC, Constellation Mystic Power, LLC, Constellation NewEnergy, Inc., Constellation Power Source Generation, LLC, Cow Branch Wind Power, LLC, CR Clearing, LLC, Criterion Power Partners, LLC, Exelon Framingham, LLC, Exelon Generation Company, LLC, Exelon New Boston, LLC, Exelon West Medway, LLC, Exelon Wind 4, LLC, Exelon Wyman, LLC, Fourmile Wind Energy, LLC, Handsome Lake Energy, LLC, Harvest II Windfarm, LLC, Harvest WindFarm, LLC, High Mesa Energy, LLC, Integrys Energy Services of New York, Inc., Integrys Energy Services, Inc., Michigan Wind 1, LLC, Michigan Wind 2, LLC, Nine Mile Point Nuclear Station, LLC, PECO Energy Company, R.E. Ginna Nuclear Power Plant, LLC, Shooting Star Wind Project, LLC, Tuana Springs Energy, LLC, Wildcat Wind, LLC, Wind Capital Holdings, LLC.

Description: Notice of Change in Status of the Exelon MBR Entities.

Filed Date: 2/2/15.

Accession Number: 20150202-5343.

Comments Due: 5 p.m. ET 2/23/15.

Docket Numbers: ER14-2326-001.

Applicants: Entergy Nuclear FitzPatrick, LLC.

Description: Compliance filing per 35.37: Entergy Nuclear Fitzpatrick, LLC, Tariff Update to be effective 8/29/2014.

Filed Date: 2/3/15.

Accession Number: 20150203-5042.

Comments Due: 5 p.m. ET 2/24/15.

Docket Numbers: ER14-2327-001.

Applicants: Entergy Nuclear Generation Company.

Description: Compliance filing per 35.37: Entergy Nuclear Generating Company Tariff Update to be effective 8/29/2014.

Filed Date: 2/3/15.

Accession Number: 20150203-5044.

Comments Due: 5 p.m. ET 2/24/15.

Docket Numbers: ER14-2328-001.

Applicants: Entergy Nuclear Indian Point 2, LLC.

Description: Compliance filing per 35.37: Entergy Nuclear Indian Point 2, LLC, Tariff Update to be effective 8/29/2014.

Filed Date: 2/3/15.

Accession Number: 20150203-5050.

Comments Due: 5 p.m. ET 2/24/15.

Docket Numbers: ER14-2329-001.

Applicants: Entergy Nuclear Indian Point 3, LLC.

Description: Compliance filing per 35.37: Entergy Nuclear Indian Point 3, LLC, Tariff Update to be effective 8/29/2014.

Filed Date: 2/3/15.

Accession Number: 20150203-5053.

Comments Due: 5 p.m. ET 2/24/15.

Docket Numbers: ER14-2330-001.

Applicants: Entergy Nuclear Power Marketing, LLC.

Description: Compliance filing per 35.37: Entergy Nuclear Power Marketing, LLC, Tariff Update to be effective 8/29/2014.

Filed Date: 2/3/15.

Accession Number: 20150203-5047.

Comments Due: 5 p.m. ET 2/24/15.

Docket Numbers: ER14-2332-001.

Applicants: Entergy Rhode Island State Energy, L.P.

Description: Compliance filing per 35.37: Entergy Rhode Island State Energy, LP., Tariff Update to be effective 8/29/2014.

Filed Date: 2/3/15.

Accession Number: 20150203-5048.

Comments Due: 5 p.m. ET 2/24/15.

Docket Numbers: ER15-895-001.

Applicants: Kentucky Utilities Company.

Description: Tariff Amendment per 35.17(b): Errata to 1_23_2015 re-collation filing to be effective 1/24/2015.

Filed Date: 2/3/15.

Accession Number: 20150203-5059.

Comments Due: 5 p.m. ET 2/24/15.

Docket Numbers: ER15-959-000.

Applicants: PJM Interconnection, L.L.C., Commonwealth Edison Company, Commonwealth Edison Company of Indiana, Inc.

Description: § 205(d) rate filing per 35.13(a)(2)(iii): ComEd submits revisions to OATT Att H-13A re PBOP Expense to be effective 3/30/2015.

Filed Date: 2/2/15.

Accession Number: 20150202-5276.

Comments Due: 5 p.m. ET 2/23/15.

Docket Numbers: ER15-960-000.

Applicants: CPV Biomass Holdings, LLC.

Description: Initial rate filing per 35.12 Application for Market-Based Rate Authority to be effective 3/3/2015.

Filed Date: 2/2/15.

Accession Number: 20150202-5280.

Comments Due: 5 p.m. ET 2/23/15.

Docket Numbers: ER15-961-000.

Applicants: Southwest Power Pool, Inc.

Description: § 205(d) rate filing per 35.13(a)(2)(iii): 1630R5 The Empire District Electric Company NITSA and NOA to be effective 1/1/2015.

Filed Date: 2/2/15.

Accession Number: 20150202-5283.

Comments Due: 5 p.m. ET 2/23/15.

Docket Numbers: ER15-962-000.

Applicants: ISO New England Inc., Emera Maine.

Description: § 205(d) rate filing per 35.13(a)(2)(iii): Cancellation of Howland LSA to be effective 1/6/2015.

Filed Date: 2/3/15.

Accession Number: 20150203-5086.

Comments Due: 5 p.m. ET 2/24/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2015.
Nathaniel J. Davis, Sr.,
Deputy Secretary.

[FR Doc. 2015-02633 Filed 2-9-15; 8:45 am]

BILLING CODE 6717-01-P